POSTAL SERVICE

39 CFR Parts 952, 953, 954, 955, 958, 959, 962, 963, 964, 965

Rules of Procedure Before the Judicial Officer

AGENCY: Postal Service.

ACTION: Final rule.

SUMMARY: This document amends the rules of practice prescribed by the Judicial Officer to implement an electronic filing system and to clarify the assigning judge in matters governed by the Administrative Procedure Act.

DATES: Effective date: July 21, 2016.

FOR FURTHER INFORMATION CONTACT: Diane Mego, (703) 812-1900, Postal Service Judicial Officer Department, 2101 Wilson Boulevard, Suite 600, Arlington, VA 22201-3078.

SUPPLEMENTARY INFORMATION:

A. Background

Changes to the rules of practice are necessary to accommodate the Judicial Officer Department's electronic filing system and establish rules relative to that system; for the Chief Administrative Law Judge to assign the presiding judge in cases governed by the Administrative Procedure Act, 5 U.S.C. 551, et seq.; and to delete the automatic scheduling of a hearing upon receipt of a mailability appeal. Changes to the authority citations are necessary to identify the authority for adjudicating each type of case, as well as the Chief Administrative Law Judge's authority for adjudicating them under the Administrative Procedure Act.

B. Explanation of Changes

Amendments to 39 CFR Part 952

The authority citation is revised to identify the authority for adjudicating this type of case, as well as the Chief Administrative Law Judge's authority for adjudicating it under the Administrative Procedure Act.

In § 952.4, the heading is revised to Office business hours; electronic filing, and the text is amended as follows:

• The existing paragraph is designated paragraph (a), and is amended to clarify the office hours.

• Paragraph (b) is added to identify the Internet address for the electronic filing system.

In § 952.9, the heading is revised to Filing; docketing and serving documents, and the text is amended as follows:

• Paragraph (a) is amended to indicate that electronic filing is required and when documents submitted by parties are considered received.

• Paragraph (b) is amended to include electronic filing and when service of documents on the opposing party is required.

• Paragraphs (c) and (d) are deleted.

Amendments to 39 CFR Part 953

The authority citation is revised to identify the authority for adjudicating this type of case, as well as the Chief Administrative Law Judge's authority for adjudicating it under the Administrative Procedure Act.

In § 953.2, concerning initiation, the text is amended to identify the Internet address for the electronic filing system. In § 953.4, the heading is revised to Filing, docketing and serving documents; service of notice; reply; motion for summary judgment. The text of § 953.4 is amended to indicate that electronic filing is required, delete the automatic scheduling of a hearing, indicate when documents submitted by the parties are considered received, provide for service on appellant by the Postal Service, and indicate when service of documents on the opposing party is required for purposes of the electronic filing system.

In § 953.10, concerning presiding officers, the text is amended to have the Chief Administrative Law Judge assign cases.

Amendments to 39 CFR Part 954

The authority citation is revised to identify the authority for adjudicating this type of case, as well as the Chief Administrative Law Judge's authority for adjudicating it under the Administrative Procedure Act.

In § 954.4, the heading is revised to Office business hours; electronic filing and the text is amended as follows:

• The existing paragraph is designated paragraph (a) and is amended to clarify the office hours.

• Paragraph (b) is added to identify the Internet address for the electronic filing system.

In § 954.8, concerning pleading, paragraph (a) is amended to indicate electronic filing is required, when documents submitted by parties are considered received, and to indicate when service of documents on the opposing party is required for purposes of the electronic filing system.

Amendments to 39 CFR Part 955

In § 955.1, concerning jurisdiction, procedure, and service of documents in proceedings before the Board, paragraph (b)(1) is amended to update the Internet address for the electronic filing system.

Amendments to 39 CFR Part 958

The authority citation is revised to identify the Chief Administrative Law Judge's authority for adjudicating this type of case under the Administrative Procedure Act.

In § 958.2, concerning definitions, paragraph (g) is amended to have the Chief Administrative Law Judge assign cases.

In § 958.19, concerning form and filing of documents, paragraph (b) is amended to indicate electronic filing is required, identify the Internet address for the electronic filing system, and indicate when documents submitted by the parties are considered received.

In § 958.20, the heading is revised to Service, and the text is revised to indicate when service of documents on the opposing party is required for purposes of the electronic filing system.

Amendments to 39 CFR Part 959

The authority citation is revised to identify the authority for adjudicating this type of case, as well as the Chief Administrative Law Judge's authority for adjudicating it under the Administrative Procedure Act.

In § 959.3, the heading is revised to Office address and business hours; electronic filing. The text is revised to clarify the office hours and new paragraph (b) is added to identify the Internet address for the electronic filing system.

In § 959.9, concerning filing documents for the record, the following paragraphs are amended:

• Paragraph (a) is amended to require electronic filing and indicate when service of documents on the opposing party is required for purposes of the electronic filing system.

• Paragraph (b) is deleted.

• Paragraph (c) is redesignated as paragraph (b) and revised to include when documents submitted by the parties are considered received.

Amendments to 39 CFR Part 962

The authority citation is revised to identify the Chief Administrative Law Judge's authority for adjudicating this case type under the Administrative Procedure Act.

In § 962.2, concerning definitions, paragraph (i) is amended to have the Chief Administrative Law Judge assign cases.

In § 962.22, concerning form and filing of documents:

• Paragraph (a) is amended to require electronic filing and identify the Internet address for the electronic filing system.

• Paragraph (b) is amended to indicate when documents submitted by the parties are considered received.

In § 962.23, the heading is revised to Service, and the text is revised to indicate when service of documents on the opposing party is required for purposes of the electronic filing system.

Amendments to 39 CFR Part 963

In § 963.3, the heading is revised to Petition; notice of hearing; answer; filing of documents; summary judgment, and the text is revised as follows:

• The last sentence of paragraph (a) is amended to identify the Internet address for the electronic filing system.

• Paragraph (d) is amended to indicate that electronic filing is required, when documents submitted by parties are considered received, and when service of documents on the opposing party is required for purposes of the electronic filing system.

Amendments to 39 CFR Part 964

The authority citation is revised to identify the Chief Administrative Law Judge's authority for adjudicating this type of case under the Administrative Procedure Act.

In § 964.3, the heading is revised to Customer petitions, notice of hearing; answer; summary judgment; filing and service, and the text is revised as follows:

• Paragraph (a) is amended to indicate that electronic filing is required and identify the Internet address for the electronic filing system

• Paragraph (e), Filing and service, is added to indicate that electronic filing is required, when documents submitted by parties are considered received, and when service of documents on the opposing party is required for purposes of the electronic filing system.

In § 964.7, concerning presiding officers, the text is amended to have the Chief Administrative Law Judge assign cases.

Amendments to 39 CFR Part 965

In § 965.5, concerning initial submissions by parties, the text is revised to indicate that electronic filing is required, and to identify the Internet address for the electronic filing system.

List of Subjects

39 CFR Part 952

Administrative practice and procedure, Fraud, Lotteries, Postal Service.

39 CFR Part 953

Administrative practice and procedure, Mailability, Postal Service.

39 CFR Part 954

Administrative practice and procedure, Periodicals, Postal Service.

39 CFR Part 955

Administrative practice and procedure, government contracts, Postal Service.

39 CFR Part 958

Administrative practice and procedure, Postal Service.

39 CFR Part 959

Administrative practice and procedure, Privacy, Postal Service.

39 CFR Part 962

Administrative practice and procedure, Fraud, Postal Service.

39 CFR Part 963

Administrative practice and procedure, Advertising, Postal Service.

39 CFR Part 964

Administrative practice and procedure, Fictitious names or addresses, Fraud, Postal Service.

39 CFR Part 965

Administrative practice and procedure, Mail Disputes, Postal Service.

Accordingly, for the reasons stated, the Postal Service amends 39 CFR parts 952, 953, 954, 955, 958, 959, 962, 963, 964, and 965 as follows:

PART 952—RULES OF PRACTICE IN PROCEEDINGS RELATIVE TO FALSE REPRESENTATION AND LOTTERY ORDERS

1. Revise the authority citation for 39 CFR Part 952 to read as follows:

Authority: 39 U.S.C. 204, 401, 3001, 3005, 3012, 3016; 5 U.S.C. 554.

2. Revise § 952.4 to read as follows:

§ 952.4 Office business hours; electronic filing.

(a) The offices of the officials identified in these rules are located at 2101 Wilson Boulevard, Suite 600, Arlington, VA 22201-3078. Normal business hours are between 8:45 a.m. and 4:45 p.m. (Eastern Time), Monday through Friday except holidays.

(b) The Judicial Officer electronic filing system Web site is accessible 24 hours a day at https://uspsjoe.justware.com/justiceweb.

3. Revise § 952.9 to read as follows:

§ 952.9 Filing; docketing and serving documents.

(a) Unless the presiding officer permits otherwise, all documents must be filed using the electronic filing system. Documents submitted using the electronic filing system are considered filed as of the date/time (Eastern Time) reflected in the system. Documents mailed to the Recorder are considered filed on the date mailed as evidenced by a United States Postal Service postmark. Filings by any other means are considered filed upon receipt by the Recorder of a complete copy of the filing during normal business hours. Discovery need not be filed except as may be sought to be included in the record, or as may be ordered by the presiding officer.

(b) Documents shall be dated and state the docket number and title of the proceeding. Any pleading or other document required by order of the presiding officer to be filed by a specified date must be received in the electronic filing system or by the Recorder on or before such date. If both parties are participating in the electronic filing system, separate service upon the opposing party is not required. Otherwise, documents shall be served personally or by mail on the opposing party, noting on the document filed, or on the transmitting letter, that a copy has been so furnished.

PART 953—RULES OF PRACTICE IN PROCEEDINGS RELATIVE TO MAILABILITY

4. Revise the authority citation for 39 CFR Part 953 to read as follows:

Authority: 39 U.S.C. 204, 401, 3001; 5 U.S.C. 554.

5. Revise § 953.2 to read as follows:

§ 953.2 Initiation.

Mailability proceedings are initiated upon the filing of an appeal in the Judicial Officer electronic filing system at https://uspsjoe.justware.com/justiceweb or with the Recorder, Judicial Officer Department, U.S. Postal Service, 2101 Wilson Boulevard, Suite 600, Arlington, VA 22201-3078.

6. Revise § 953.4 to read as follows:

§ 953.4 Filing, docketing and serving documents; service of notice; reply; motion for summary judgment.

(a) Filing. Unless the presiding officer permits otherwise, all documents must be filed using the electronic filing system. Documents submitted using the electronic filing system are considered filed as of the date/time (Eastern Time) reflected in the system. Documents mailed to the Recorder are considered filed on the date mailed as evidenced by a United States Postal Service postmark. Filings by any other means are considered filed upon receipt by the Recorder of a complete copy of the filing during normal business hours. Normal business hours are between 8:45 a.m. and 4:45 p.m. (Eastern Time), Monday through Friday except holidays. If both parties are participating in the electronic filing system, separate service upon the opposing party is not required. Otherwise, documents shall be served personally or by mail on the opposing party, noting on the document filed, or on the transmitting letter, that a copy has been so furnished.

(b) Service of notice. (1) Upon receiving the appeal, the Recorder shall issue a notice specifying that the Postal Service General Counsel's or Chief Postal Inspector or his or her designee's reply shall be filed within 15 days of receipt of the notice.

(2) The Recorder shall promptly serve this notice on the parties as follows:

(i) The notice, with a copy of the appeal, shall be sent to the General Counsel or the Chief Postal Inspector or his or her designee.

(ii) When the appellant's address is within the United States, the notice, with a copy of the appeal, shall be sent to the postmaster at the office that delivers mail to the appellant's address. The postmaster shall be instructed that, acting personally or through a supervisory employee or a postal inspector, he or she is to serve these documents on the appellant. If the appellant cannot be found within 3 days, the postmaster shall send these documents to the appellant by ordinary mail and forward a statement to the Recorder that is signed by the delivering employee and that specifies the time and place of delivery.

(iii) When the appellant's address is outside the United States, the notice, with a copy of the appeal, shall be sent to the appellant by registered mail, return receipt requested. A written statement by the Recorder, noting the time and place of mailing, shall be accepted as proof of service in the event a signed and dated return receipt is not received.

(c) Reply. The General Counsel, the Chief Postal Inspector, or that officer's designee shall file a reply within the aforementioned 15-day period or any period granted by the presiding officer for good cause shown. If the reply so filed fails to address any additional allegation in the appeal, that allegation shall be deemed admitted.

(d) Motion for summary judgment. Upon motion of the General Counsel, the Chief Postal Inspector, that officer's designee, or the appellant, or on the presiding officer's own initiative, the presiding officer may find that the appeal and answer present no genuine and material issues of fact requiring an evidentiary hearing, and thereupon may render an initial decision upholding or reversing the determination or ruling. The initial decision shall become the final Agency decision if a timely appeal is not taken.

7. Revise § 953.10 to read as follows:

§ 953.10 Presiding Officers.

The presiding officer at any hearing shall be an Administrative Law Judge qualified in accordance with law or the Judicial Officer (39 U.S.C. 204). The Chief Administrative Law Judge shall assign cases. The Judicial Officer may preside at the hearing if an Administrative Law Judge is unavailable.

PART 954—RULES OF PRACTICE IN PROCEEDINGS RELATIVE TO THE DENIAL, SUSPENSION, OR REVOCATON OF PERIODICALS MAIL PRIVILEGES

8. Revise the authority citation for 39 CFR part 954 to read as follows:

Authority: 39 U.S.C. 204, 401, 3685; 5 U.S.C. 554.

9. Revise § 954.4 to read as follows:

§ 954.4 Office business hours; electronic filing.

(a) The offices of the officials identified in these rules are located at 2101 Wilson Boulevard, Suite 600, Arlington, VA 22201-3078. Normal Business hours are between 8:45 a.m. and 4:45 p.m. (Eastern Time), Monday through Friday except holidays.

(b) The Judicial Officer electronic filing system Web site is accessible 24 hours a day at https://uspsjoe.justware.com/justiceweb.

10. In § 954.8, paragraph (a) is revised to read as follows:

§ 954.8 Pleading.

(a) Filing and service. All documents required under this part must be filed using the electronic filing system unless the presiding officer permits otherwise. Documents submitted using the electronic filing system are considered filed as of the date/time (Eastern Time) reflected in the system. Documents mailed to the Recorder are considered filed on the date mailed as evidenced by a United States Postal Service postmark. Filings by any other means are considered filed upon receipt by the Recorder of a complete copy of the filing during normal business hours. If both parties are participating in the electronic filing system, separate service upon the opposing party is not required. Otherwise, documents shall be served personally or by mail on the opposing party, noting on the document filed, or on the transmitting letter, that a copy has been so furnished. The Recorder shall maintain a docket and the files in all proceedings.

* * * * *

PART 955—RULES OF PRACTICE BEFORE THE POSTAL SERVICE BOARD OF CONTRACT APPEALS

11. The authority citation for 39 CFR part 955 continues to read as follows:

Authority: 39 U.S.C. 204, 401; 41 U.S.C. 7101-7109.

12. In § 955.1, revise the final sentence of paragraph (b)(1) to read as follows:

§ 955.1 Jurisdiction, procedure, service of documents.

* * * * *

(b) * * *

(1) * * * The Web site for electronic filing is https://uspsjoe.justware.com/justiceweb.

* * * * *

PART 958—RULES OF PRACTICE IN PROCEEDINGS RELATIVE TO CIVIL PENALTIES, CLEAN-UP COSTS AND DAMAGES FOR VIOLATION OF HAZARDOUS MATERIAL REGULATIONS

13. Revise the authority citation for 39 CFR part 958 to read as follows:

Authority: 39 U.S.C. 204, 401, 3001, 3018; 5 U.S.C. 554.

14. In § 958.2, revise paragraph (g) to read as follows:

§ 958.2 Definitions.

* * * * *

(g) Presiding Officer refers to an Administrative Law Judge designated by the Chief Administrative Law Judge to conduct a hearing, or to the Judicial Officer, if an Administrative Law Judge is not available.

* * * * *

15. In § 958.19, revise paragraph (b) to read as follows:

§ 958.19 Form and Filing of documents.

* * * * *

(b) All pleadings and documents required under this part must be filed using the Judicial Officer electronic filing system unless the presiding officer permits otherwise. The Judicial Officer electronic filing system Web site is accessible 24 hours a day at https://uspsjoe.justware.com/justiceweb. Documents submitted using the electronic filing system are considered filed as of the date/time (Eastern Time) reflected in the system. Documents mailed to the Recorder are considered filed on the date mailed as evidenced by a United States Postal Service postmark. Filings by any other means are considered filed upon receipt by the Recorder of a complete copy of the filing during normal business hours. Normal business hours are between 8:45 a.m. and 4:45 p.m. (Eastern Time), Monday through Friday except holidays.

* * * * *

16. Revise § 958.20 to read as follows:

§ 958.20 Service.

If both parties are participating in the electronic filing system, separate service upon the opposing party is not required. Otherwise, documents shall be served personally or by mail on the opposing party, noting on the document filed, or on the transmitting letter, that a copy has been so furnished.

PART 959—RULES OF PRACTICE IN PROCEEDINGS RELATIVE TO THE PRIVATE EXPRESS STATUTES

17. Revise the authority citation for 39 CFR part 959 to read as follows:

Authority: 39 U.S.C. 204, 401; 601-606; 18 U.S.C. 1693-1699; 5 U.S.C. 554; 39 CFR 310, 320.

18. Revise § 959.3 to read as follows:

§ 959.3 Office address and business hours; electronic filing

(a) The offices of the officials identified in these rules are located at 2101 Wilson Boulevard, Suite 600, Arlington, VA 22201-3078. Normal Business hours are between 8:45 a.m. and 4:45 p.m. (Eastern Time), Monday through Friday except holidays.

(b) The Judicial Officer electronic filing system Web site is accessible 24 hours a day at https://uspsjoe.justware.com/justiceweb.

19. Revise § 959.9 to read as follows:

§ 959.9 Filing documents for the record.

(a) All documents required under this part must be filed using the electronic filing system unless the presiding officer permits otherwise. If both parties are participating in the electronic filing system, separate service upon the opposing party is not required. Otherwise, documents shall be served personally or by mail on the opposing party, noting on the document filed, or on the transmitting letter, that a copy has been so furnished.

(b) Documents shall be dated and state the title of the proceeding and, except initial petitions, the docket number. Documents submitted using the electronic filing system are considered filed as of the date/time (Eastern Time) reflected in the system. Documents mailed to the Recorder are considered filed on the date mailed as evidenced by a United States Postal Service postmark. Filings by any other means are considered filed upon receipt by the Recorder of a complete copy of the filing during normal business hours.

PART 962—RULES OF PRACTICE IN PROCEEDINGS RELATIVE TO THE PROGRAM FRAUD CIVIL REMEDIES ACT

20. Revise the authority citation for 39 CFR part 962 to read as follows:

Authority: 31 U.S.C. 3801-12; 39 U.S.C. 401; 5 U.S.C. 554.

21. In § 962.2, revise paragraph (i) to read as follows:

§ 962.2 Definitions.

* * * * *

(i) Presiding Officer refers to an Administrative Law Judge designated by the Chief Administrative Law Judge to conduct a hearing authorized by 31 U.S.C. 3803.

* * * * *

22. In § 962.22, revise the introductory text of paragraph (a) and revise paragraph (b) to read as follows:

§ 962.22 Form and filing of documents.

(a) All pleadings and documents required under this part must be filed using the Judicial Officer electronic filing system unless the presiding officer permits otherwise. The Judicial Officer electronic filing system Web site is accessible 24 hours a day at https://uspsjoe.justware.com/justiceweb. Every pleading filed in a proceeding under this part must:

* * * * *

(b) Documents submitted using the electronic filing system are considered filed as of the date/time (Eastern Time) reflected in the system. Documents mailed to the Recorder are considered filed on the date mailed as evidenced by a United States Postal Service postmark. Filings by any other means are considered filed upon receipt by the Recorder of a complete copy of the filing during normal business hours. Normal business hours are between 8:45 a.m. and 4:45 p.m. (Eastern Time), Monday through Friday except holidays.

* * * * *

23. Revise § 962.23 to read as follows:

§ 962.23 Service.

If both parties are participating in the electronic filing system, separate service upon the opposing party is not required. Otherwise, documents shall be served personally or by mail on the opposing party, noting on the document filed, or on the transmitting letter, that a copy has been so furnished.

PART 963—RULES OF PRACTICE IN PROCEEDINGS RELATIVE TO VIOLATIONS OF THE PANDERING ADVERTISEMENTS STATUTE, 39 U.S.C. 3008

24. The authority citation for 39 CFR part 963 continues to read as follows:

Authority: 39 U.S.C. 204, 401, 3008.

25. In § 963.3, the final sentence of paragraph (a) is revised and paragraph (d) is revised to read as follows:

§ 963.3 Petition; notice of hearing; answer; filing; summary judgment.

(a) * * * The Manager will forward each timely petition to the Recorder through the Judicial Officer Department electronic filing system at https://uspsjoe.justware.com/justiceweb.

* * * * *

(d) Filing. All documents required under this part must be filed using the electronic filing system (https://uspsjoe.justware.com/justiceweb) unless the presiding officer permits otherwise. Documents submitted using the electronic filing system are considered filed as of the date/time (Eastern Time) reflected in the system. Documents mailed to the Recorder are considered filed on the date mailed as evidenced by a United States Postal Service postmark. Filings by any other means are considered filed upon receipt by the Recorder of a complete copy of the filing during normal business hours. Normal business hours are between 8:45 a.m. and 4:45 p.m. (Eastern Time), Monday through Friday except holidays. If both parties are participating in the electronic filing system, separate service upon the opposing party is not required. Otherwise, documents shall be served personally or by mail on the opposing party, noting on the document filed, or on the transmitting letter, that a copy has been so furnished. The Recorder shall maintain a docket and the files in all proceedings.

* * * * *

PART 964—RULES OF PRACTICE GOVERNING DISPOSITION OF MAIL WITHHELD FROM DELIVERY PURSUANT TO 39 U.S.C. 3003, 3004

26. Revise the authority citation for 39 CFR part 964 to read as follows:

Authority: 39 U.S.C. 204, 401, 3003, 3004; 5 U.S.C. 554.

27. In § 964.3, revise the second and third sentences of paragraph (a), and add paragraph (e) to read as follows:

§ 964.3 Customer petitions; notice of hearing; answer; summary judgment; filing and service.

(a) Petition. * * * The Petition, signed by the Petitioner or his or her attorney, shall be filed via the Judicial Officer Electronic filing system at https://uspsjoe.justware.com/justiceweb or via certified mail to the Recorder, Judicial Officer Department, United States Postal Service, 2101 Wilson Boulevard, Suite 600, Arlington, VA 22201-3078. The Petition must be filed within 14 days of the date upon which the Petitioner received the notice. * * *

* * * * *

(e) Filing and service. All documents required under this part must be filed using the electronic filing system unless the presiding officer permits otherwise. Documents submitted using the electronic filing system are considered filed as of the date/time (Eastern Time) reflected in the system. Documents mailed to the Recorder are considered filed on the date mailed as evidenced by a United States Postal Service postmark. Filings by any other means are considered filed upon receipt by the Recorder of a complete copy of the filing during normal business hours. Normal business hours are between 8:45 a.m. and 4:45 p.m. (Eastern Time), Monday through Friday except holidays. If both parties are participating in the electronic filing system, separate service upon the opposing party is not required. Otherwise, documents shall be served personally or by mail on the opposing party, noting on the document filed, or on the transmitting letter, that a copy has been so furnished.

28. In § 964.7, revise paragraph (a) to read as follows:

§ 964.7 Presiding officers.

(a) The presiding officer shall be an Administrative Law Judge qualified in accordance with law or the Judicial Officer. The Chief Administrative Law Judge shall assign cases. The Judicial Officer may preside at the hearing if an Administrative Law Judge is unavailable.

* * * * *

PART 965—RULES OF PRACTICE IN PROCEEDINGS RELATIVE TO MAIL DISPUTES

29. The authority citation for 39 CFR part 965 continues to read as follows:

Authority: 39 U.S.C. 204, 401.

30. Revise § 965.5 to read as follows:

§ 965.5 Initial submissions by parties.

Within 15 days after receipt of the Recorder's notice, each party shall file via the Judicial Officer electronic filing system (https://uspsjoe.justware.com/justiceweb) a sworn statement of the facts supporting its claim to receipt of the mail together with a copy of each document on which it relies in making such claim, and any arguments supporting its claim. Unless the presiding officer otherwise permits, all documents relative to this proceeding must be filed using the electronic filing system.

Stanley F. Mires,
Attorney, Federal Compliance.

[FR Doc. 2016-14553 Filed 6-20-16; 8:45 am]

BILLING CODE 7710-12-P